Title 3—

The President

Presidential Determination No. 2009-25 of September 7, 2009

Eligibility of the Maldives to Receive Defense Articles and Defense Services Under the Foreign Assistance Act of 1961, as Amended, and the Arms Export Control Act, as Amended

Memorandum for the Secretary of State

Pursuant to the authority vested in me by the Constitution and the laws of the United States, including section 503(a) of the Foreign Assistance Act of 1961, as amended, and section 3(a)(1) of the Arms Export Control Act, as amended, I hereby find that the furnishing of defense articles and defense services to the Maldives will strengthen the security of the United States and promote world peace.

You are authorized and directed to transmit this determination to the Congress and to arrange for its publication in the Federal Register.

THE WHITE HOUSE,

Washington, September 7, 2009.

[FR Doc. E9-23084

Filed 9-22-09; 8:45 am]

Billing code 4710-10-P